DEPARTMENT OF LABOR

Employment and Training Administration

[TA-W-85,956]

Cameron International Corporation, Measurement Division, Duncan, Oklahoma; Notice of Revised Determination on Reconsideration

On August 18, 2016, the Department of Labor issued an Affirmative Determination Regarding Application for Reconsideration for the workers and former workers of Cameron International Corporation, Measurement Division, Duncan, Oklahoma (Cameron International-Measurement Division). The workers of Cameron International-Measurement Division are engaged in activities related to the production of measurement equipment. The subject worker group does not include on-site leased workers.

The request for reconsideration asserts that Cameron International Corporation, Duncan, Oklahoma (subject firm) is a Supplier to several firms that employ worker groups eligible to apply for Trade Adjustment Assistance (TAA). The request for reconsideration includes supporting documentation.

The reconsideration investigation revealed that Section 222(b)(1) has been met because a significant number or proportion of the workers in Cameron International-Measurement Division have become totally or partially separated, or are threatened to become totally or partially separated.

The reconsideration investigation revealed that the subject firm is a Supplier to a firm that employed a group of workers who received a certification of eligibility under Section 222(a) of the Act, 19 U.S.C. 2272(a), and such supply is related to the finished article that was the basis for such certification.

The reconsideration investigation revealed that Section 222(b)(3)(B) has been met because the loss of business by the subject firm with the firm that employed a certified worker group contributed importantly to worker separations at Cameron International-Measurement Division.

Conclusion

After careful review of the additional facts obtained on reconsideration, I determine that workers of Cameron International Corporation, Measurement Division, Duncan, Oklahoma, who were engaged in employment related to production of measurement equipment, meet the worker group certification criteria under Section 222(a) of the Act, 19 U.S.C. 2272(a). In accordance with Section 223 of the Act, 19 U.S.C. 2273, I make the following certification:

All workers of Cameron International Corporation, Measurement Division, Duncan, Oklahoma, who became totally or partially separated from employment on or after April 23, 2014, through two years from the date of this certification, and all workers in the group threatened with total or partial separation from employment on date of certification through two years from the date of certification, are eligible to apply for adjustment assistance under Chapter 2 of Title II of the Trade Act of 1974, as amended.

Signed in Washington, DC, this 5th day of December, 2016.
Del-Min Amy Chen,
Certifying Officer, Office of Trade Adjustment Assistance.

[FR Doc. 2016-31917 Filed 1-4-17; 8:45 am]

BILLING CODE 4510-FN-P